DEPARTMENT OF ENERGY

Federal Energy Regulatory Commission

Notice of FERC Commissioner and Staff Attendance at OMS Annual Meeting and Monthly Midwest ISO Advisory Committee Meetings and Monthly Midwest ISO Board of Directors Meetings

November 2, 2005.

The Federal Energy Regulatory Commission hereby gives notice that members of the Commission and its staff may attend the Organization of MISO States (OMS) Annual Meeting and the following monthly Midwest Independent Transmission System Operator, Inc. (Midwest ISO) Advisory Committee Meetings and Board of Directors Meetings:

OMS Annual Meeting—

December 8, 2005, 10:30 a.m.-3 p.m.

Lakeside Conference Center, 630 West Carmel Drive, Carmel, IN 46032.

Midwest ISO Advisory Committee Meetings—

January 18, 2006, at a time to be determined

February 15, 2006, at a time to be determined

March 15, 2006, at a time to be determined

April 19, 2006, at a time to be determined

May 17, 2006, at a time to be determined

June 14, 2006, at a time to be determined

July 19, 2006, at a time to be determined

August 16, 2006, at a time to be determined

September 20, 2006, at a time to be determined

October 18, 2006, at a time to be determined

November 15, 2006, at a time to be determined

December 13, 2006, at a time to be determined

Lakeside Conference Center, 630 West Carmel Drive, Carmel, IN 46032.

Midwest ISO Board of Directors Meetings—

January 19, 2006, at a time to be determined

February 16, 2006, at a time to be determined

March 16, 2006, at a time to be determined

April 20, 2006, at a time to be determined

May 18, 2006, at a time to be determined

June 15, 2006, at a time to be determined

July 20, 2006, at a time to be determined

August 17, 2006, at a time to be determined

September 21, 2006, at a time to be determined

October 19, 2006, at a time to be determined

November 16, 2006, at a time to be determined

December 14, 2006, at a time to be determined

701 City Center Drive, Carmel, IN 46032.

For further information regarding the times and agendas of the meetings, please see http://www.midwestiso.org/calendar/index.php.

The discussions at each of the meetings described above may address matters at issue in the following proceedings:

Docket No. ER02-2595, et al., Midwest Independent Transmission System Operator, Inc.

Docket No. ER04-375, Midwest Independent Transmission System Operator, Inc., et al.

Docket No. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-752, Midwest Independent Transmission System Operator, Inc. and PJM Interconnection, L.L.C.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket No. ER06-18, Midwest Independent Transmission System Operator, Inc.

Docket No. ER06-27, Midwest Independent Transmission System Operator, Inc., et al.

Docket Nos. EC06-4 and ER06-20, LGE Energy LLC, et al.

These meetings are open to the public.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Magalie R. Salas,
Secretary.

[FR Doc. E5-6187 Filed 11-9-05; 8:45 am]

BILLING CODE 6717-01-P